DEPARTMENT OF ENERGY

Federal Energy Regulatory Commission

[Docket No. CP17-409-000]

Notice of Availability of the Environmental Assessment for the Proposed Birdsboro Pipeline Project, DTE Midstream Appalachia, LLC

The staff of the Federal Energy Regulatory Commission (FERC or Commission) has prepared this Environmental Assessment (EA) of the Birdsboro Pipeline Project (Project) proposed by DTE Midstream Appalachia, LLC (DTE Midstream) in the above-referenced docket. DTE Midstream requests authorization to construct, operate, and maintain new natural gas facilities in Berks County, Pennsylvania, consisting of 13.2 miles of 12-inch-diameter pipeline, a new meter station, and appurtenant facilities.

The EA assesses the potential environmental effects of the construction and operation of the Project in accordance with the requirements of the National Environmental Policy Act of 1969 (NEPA). The FERC staff concludes that approval of the Project, with appropriate mitigating measures, would not constitute a major federal action significantly affecting the quality of the human environment.

The U.S. Army Corps of Engineers and U.S. Environmental Protection Agency participated as cooperating agencies in the preparation of the EA. Cooperating agencies have jurisdiction by law and/or have special expertise with respect to resources potentially affected by a proposal.

The proposed Birdsboro Pipeline Project includes the following facilities:

• About 13.2 miles of new, 12-inch-diameter pipeline;

• a new meter station associated facilities at the Texas Eastern Transmission Company Pipeline right-of-way and pig launcher facility; ¹

¹ A pig is a tool that the pipeline company inserts into and pushes through the pipeline for cleaning the pipeline, conducting internal inspections, or other purposes.

• a new pig receiver facility; and

• four mainline valve sites.

The FERC staff mailed copies of the EA to federal, state, and local government representatives and agencies; elected officials; environmental and public interest groups; Native American tribes; potentially affected landowners and other interested individuals and groups; and newspapers and libraries in the Project area. In addition, the EA is available for public viewing on the FERC's Web site (www.ferc.gov) using the eLibrary link. A limited number of copies of the EA are available for distribution and public inspection at: Federal Energy Regulatory Commission, Public Reference Room, 888 First Street NE., Room 2A,Washington, DC 20426, (202) 502-8371.

Any person wishing to comment on the EA may do so. Your comments should focus on the potential environmental effects, reasonable alternatives, and measures to avoid or lessen environmental impacts. The more specific your comments, the more useful they will be. To ensure that your comments are properly recorded and considered prior to a Commission decision on the proposal, it is important that the FERC receives your comments in Washington, DC on or before December 15, 2017.

For your convenience, there are three methods you can use to submit your comments to the Commission. In all instances, please reference the Project docket number (CP17-409-000) with your submission. The Commission encourages electronic filing of comments and has dedicated eFiling expert staff available to assist you at (202) 502-8258 or FercOnlineSupport@ferc.gov.

(1) You may file your comments electronically by using the eComment feature, which is located on the Commission's Web site at www.ferc.gov under the link to Documents and Filings. An eComment is an easy method for interested persons to submit text-only comments on a Project;

(2) You may file your comments electronically by using the eFiling feature, which is located on the Commission's Web site at www.ferc.gov under the link to Documents and Filings. With eFiling you can provide comments in a variety of formats by attaching them as a file with your submission. New eFiling users must first create an account by clicking on eRegister. You will be asked to select the type of filing you are making. A comment on a particular Project is considered a Comment on a Filing; or

(3) You may file a paper copy of your comments at the following address: Kimberly D. Bose, Secretary, Federal Energy Regulatory Commission, 888 First Street NE., Room 1A, Washington, DC 20426.

Any person seeking to become a party to the proceeding must file a motion to intervene pursuant to Rule 214 of the Commission's Rules of Practice and Procedures (Title 18 Code of Federal Regulations 385.214).² Only intervenors have the right to seek rehearing of the Commission's decision. Affected landowners and parties with environmental concerns may be granted intervenor status upon showing good cause by stating that they have a clear and direct interest in this proceeding that would not be adequately represented by any other parties. You do not need intervenor status to have your comments considered.

² See the previous discussion on the methods for filing comments.

Additional information about the Project is available from the Commission's Office of External Affairs, at 1-866-208-FERC (3372), or on the FERC Web site (www.ferc.gov) using the eLibrary link. Click on the eLibrary link, click on General Search, and enter the docket number excluding the last three digits in the Docket Number field (i.e., CP17-409). Be sure you have selected an appropriate date range. For assistance, please contact FERC Online Support at FercOnlineSupport@ferc.gov or toll free at 1-866-208-3676, or for TTY, contact 1-202-502-8659. The eLibrary link also provides access to the texts of formal documents issued by the Commission, such as orders, notices, and rulemakings.

In addition, the Commission offers a free service called eSubscription, which allows you to keep track of all formal issuances and submittals in specific dockets. This can reduce the amount of time you spend researching proceedings by automatically providing you with notification of these filings, document summaries, and direct links to the documents. Go to www.ferc.gov/docs-filing/esubscription.asp.

Dated: November 15, 2017.
Kimberly D. Bose,
Secretary.

[FR Doc. 2017-25234 Filed 11-21-17; 8:45 am]

BILLING CODE 6717-01-P